DEPARTMENT OF HOUSING AND URBAN DEVELOPMENT

[Docket No. FR-6020-FA-01]

Announcement of Tenant Protection Voucher Funding Awards for Fiscal Year 2016 for the Housing Choice Voucher Program

AGENCY: Office of the Assistant Secretary for Public and Indian Housing, HUD.

ACTION: Announcement of Fiscal Year 2016 awards.

SUMMARY: In accordance with the Department of Housing and Urban Development Reform Act of 1989, this document notifies the public of Tenant Protection Voucher (TPV) funding awards for Fiscal Year (FY) 2016 to public housing agencies (PHAs) under the Section 8 Housing Choice Voucher Program (HCVP). The purpose of this notice is to publish the names and addresses of awardees, and the amounts of their non-competitive funding awards for assisting households affected by housing conversion actions, public housing relocations and replacements, moderate rehabilitation replacements, and HOPE VI relocations.

FOR FURTHER INFORMATION CONTACT: Milan Ozdinec, Deputy Assistant Secretary, Office of Public Housing and Voucher Programs, Office of Public and Indian Housing, Department of Housing and Urban Development, 451 Seventh Street SW., Room 4204, Washington, DC 20410-5000, telephone (202) 402-1380. Hearing- or speech-impaired individuals may call HUD's TTY number at (800) 927-7589. (Only the “800” telephone number is toll-free.)

SUPPLEMENTARY INFORMATION: The regulations governing the HCVP are published at 24 CFR 982. The purpose of this rental assistance program is to assist eligible families to pay their rent for decent, safe, and sanitary housing in the private rental market. The regulations for allocating housing assistance budget authority under Section 213(d) of the Housing and Community Development Act of 1974 are published at 24 CFR part 791, subpart D.

The FY 2016 awardees announced in this notice were provided HCVP tenant protection voucher (TPV) funds on an as-needed, non-competitive basis, i.e., not consistent with the provisions of a Notice of Funding Availability (NOFA). TPV awards made to PHAs for program actions that displace families living in public housing were made on a first-come, first-served basis in accordance with PIH Notice 2007-10, “Voucher Funding in Connection with the Demolition or Disposition of Occupied Public Housing Units,” and PIH Notice 2016-04, “Implementation of the Federal Fiscal Year (FFY) 2016 Funding Provisions for the Housing Choice Voucher Program.” Awards for the Rental Assistance Demonstration (RAD) were provided for Rental Supplement and Rental Assistance Payment Projects (RAD—Second Component) consistent with PIH Notice 2012-32 (HA), REV-2, “Rental Assistance Demonstration—Final Implementation, Revision 2.” Announcements of awards provided under the NOFA process for Mainstream, Designated Housing, Family Unification (FUP), and Veterans Assistance Supportive Housing (VASH) programs will be published in a separate Federal Register notice.

Awards published under this notice were provided: (1) to assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (RAD—Second Component); (5) to provide relocation housing assistance in connection with the demolition of public housing; (6) to provide replacement housing assistance for single room occupancy (SRO) units that fail housing quality standards (HQS); (7) to assist families in public housing developments that are scheduled for demolition in connection with a HUD-approved HOPE VI revitalization or demolition grant; and (8) to assist families consistent with PIH Notice 2016-12, “Funding Availability for Tenant-Protection Vouchers for Certain At-Risk Households in Low-Vacancy Areas—Fiscal Year 2016” and PIH Notice 2015-07, “Funding Availability for Tenant-Protection Vouchers for Certain At-Risk Households in Low-Vacancy Areas—Fiscal Year 2015.”

A special administrative fee of $200 per occupied unit was provided to PHAs to compensate for any extraordinary HCVP administrative costs associated with Multifamily Housing conversion actions.

The Department awarded total new budget authority of $86,970,667 to recipients under all of the above-mentioned categories for 9,606 housing choice vouchers. This budget authority includes $1,406,073 of unobligated commitments made in FY 2015. These funds were reserved by September 30, 2015, but not contracted until FY 2016, and thus have been included with obligated commitments for FY 2016.

In accordance with Section 102(a)(4)(C) of the Department of Housing and Urban Development Reform Act of 1989 (103 Stat. 1987, 42 U.S.C. 3545), the Department is publishing the names and addresses of awardees, and their award amounts in Appendix A. The awardees are listed alphabetically by State for each type of TPV award.

Dated: April 7, 2017.
Jemine A. Bryon,
General Deputy Assistant Secretary for Public and Indian Housing .

Appendix A

Section 8 Rental Assistance Programs Announcement of Awards for Fiscal Year 2016
Housing agency | Address | Units | Award
Special Fees
Special Fees—At-Risk Households
CA: COUNTY OF LOS ANGELES HOUSING AUTH | C.D.C. COUNTY OF LOS ANGELES, 700 W. MAIN STREET, ALHAMBRA, CA 91801 |  | $11,200
NY: TOWN OF BROOKHAVEN DEPT OF HSG | COMM FARMINGVILLE, NY 11738 |  | 22,200
Total for Special Fees—At-Risk Households |  |  | 33,400
Special Fees—Opt-Outs/Terminations
CA: COUNTY OF CONTRA COSTA HSG AUTH | 3133 ESTUDILLO ST., P.O. BOX 2759, MARTINEZ, CA 94553 |  | 2,200
CO: CITY OF ENGLEWOOD HOUSING AUTHORITY | 3460 SOUTH SHERMAN ST. #101, ENGLEWOOD, CO 80110 |  | 5,600
CT: HARTFORD HOUSING AUTHORITY | 160 OVERLOOK TERRACE, HARTFORD, CT 06106 |  | 7,400
CT: HSG AUTH OF CITY OF NEW HAVEN | 360 ORANGE STREET, NEW HAVEN, CT 06511 |  | 53,200
FL: CITY OF MIAMI, DEPT. OF COMM DEVEL | 444 SW. 2ND AVENUE, 2ND FLOOR, MIAMI, FL 33130 |  | 5,600
IA: CHARLES CITY HOUSING AND REDEVEL | 501 CEDAR TERRCE SOUTH, CHARLES CITY, IA 50616 |  | 2,000
IA: SPIRIT LAKE LOW RENT HSG AGENCY | 710 LAKE ST., SPIRIT LAKE, IA 51360 |  | 2,200
IA: DUBUQUE DEPT OF HUMAN RIGHTS | 350 W. 6TH STREET—SUITE 312, DUBUQUE, IA 52001 |  | 1,800
IL: CHICAGO HOUSING AUTHORITY | 60 EAST VAN BUREN ST., 11TH FLOOR, CHICAGO, IL 60605 |  | 5,000
IL: HSG AUTHORITY FOR LASALLE COUNTY | P.O. BOX 782, 526 EAST NORRIS DRIVE, OTTAWA, IL 61350 |  | 2,800
IL: MENARD COUNTY HOUSING AUTHORITY | 101 W. SHERIDAN ROAD, PETERSBURG, IL 62675 |  | 1,200
IN: HA KOKOMO 219 E. TAYLOR ST | P.O. BOX 1207, KOKOMO, IN 46903 |  | 2,200
IN: INDIANAPOLIS HOUSING AGENCY | 1919 N. MERIDIAN STREET, INDIANAPOLIS, IN 46202 |  | 8,000
KS: WICHITA HOUSING AUTHORITY | 332 N. RIVERVIEW, WICHITA, KS 67203 |  | 9,800
KY: LOUISVILLE HOUSING AUTHORITY | 420 SOUTH EIGHTH STREET, LOUISVILLE, KY 40203 |  | 35,000
KY: MAYFIELD HOUSING AUTHORITY | 312 BROOKSIDE DRIVE, P.O. BOX 474, MAYFIELD, KY 42066 |  | 2,800
LA: TALLULAH (CITY OF) PHA | 204 NORTH CEDAR STREET, TALLULAH, LA 71282 |  | 1,000
ME: MAINE STATE HSG AUTHORITY | 353 WATER STREET, AUGUSTA, ME 04330 |  | 6,800
MI: MICHIGAN STATE HSG. DEV. AUTH | P.O. BOX 30044, LANSING, MI 48909 |  | 7,800
MN: CAMBRIDGE ECONOMIC DEVE AUTHORITY | 121 SOUTH FERN STREET, CAMBRIDGE, MN 55008 |  | 3,600
MO: HOUSING AUTH OF KANSAS CITY, MISSOURI | 920 MAIN STREET, SUITE 701, KANSAS CITY, MO 64106 |  | 1,200
NC: GREENSBORO HOUSING AUTHORITY | P.O. BOX 21287, GREENSBORO, NC 27420 |  | 29,600
ND: STUTSMAN COUNTY HOUSING AUTHORITY | 300 2ND ST. NE—200, JAMESTOWN, ND 58401 |  | 3,600
ND: HOUSING AUTH OF THE COUNTY OF RANSOM | P.O. BOX 5, ASHLEY, ND 58413 |  | 2,200
ND: STARK COUNTY HOUSING AUTHORITY | 1149 WEST VILLARD, P.O. BOX 107, DICKINSON, ND 58602 |  | 2,400
ND: RICHLAND COUNTY HOUSING AUTHORITY | 230 8TH AVENUE WEST, WEST FARGO, ND 58078 |  | 2,200
ND: COOPERSTOWN HOUSING AND REDE | P.O. BOX 208, COOPERSTOWN, ND 58425 |  | 1,200
ND: DICKEY/SARGENT HOUSING AUTHORITY | P.O. BOX 624, 309 NORTH 2ND, ELLENDALE, ND 58436 |  | 400
ND: MCHENRY/PIERCE COUNTYHOUSING AUTH | C/O MINOT HOUSING AUTHORITY, 108 BURDICK EXPRESSWAY, MINOT, ND 58701 |  | 6,600
NE: OMAHA HOUSING AUTHORITY | 1805 HARNEY STREET, OMAHA, NE 68102 |  | 4,800
NJ: NEW JERSEY DEPAR OF COMMUNITY AFFAIRS | 101 SOUTH BROAD STREET, P.O. BOX 051, TRENTON, NJ 08625 |  | 4,600
NY: CITY OF NEW YORK DEPT OF HSG PRESE & DEV | 100 GOLD STREET, ROOM 501, NEW YORK, NY 10038 |  | 1,800
NY: VILLAGE OF MANLIUS | C/O CHRISTOPHER COMMUNITY, 990 JAMES STREET, SYRACUSE, NY 13203 |  | 2,200
NY: NYS HSG TRUST FUND CORPORATION | 38-40 STATE STREET, ALBANY, NY 12207 |  | 11,200
OH: CINCINNATI METROPOLITAN HSG. AUTH | 16 WEST CENTRAL PARKWAY, CINCINNATI, OH 45210 |  | 14,600
OH: LUCAS MHA | P.O. BOX 477, 435 NEBRASKA AVENUE, TOLEDO, OH 43697 |  | 8,000
OH: LORAIN MHA | 1600 KANSAS AVENUE, LORAIN, OH 44052 |  | 3,600
SD: ABERDEEN HOU & REDEV COMMISSION | 2324 3RD AVE. SE., ABERDEEN, SD 57401 |  | 2,800
SD: LAWRENCE COUNTY HOUSING AUTHORITY | 1220 CEDAR STREET, #113, STURGIS, SD 57785 |  | 1,000
SD: VERMILLION HOUSING & REDEVELOPMENT | P.O. BOX 362, 14 WEST MAIN STREET, VERMILLION, SD 57069 |  | 7,400
TN: MEMPHIS HOUSING AUTHORITY | P.O. BOX 3664, MEMPHIS, TN 38103 |  | 71,800
TN: TENNESSEE HOUSING DEV AGENCY | 502 DEADERICK STREET, 3RD FLOOR, NASHVILLE, TN 37243 |  | 3,000
VA: RICHMOND REDEVELOPMENT & H/A | 901 CHAMBERLAYNE PARKWAY, P.O. BOX 26887, RICHMOND, VA 23261 |  | 26,400
WA: HA OF THE CITY OF BREMERTON | 600 PARK AVENUE, BREMERTON, WA 98337 |  | 6,000
WA: HOUSING AUTH OF THE CITY OF TACOMA | 902 SOUTH “L” STREET, SUITE 2C, TACOMA, WA 98405 |  | 9,600
WA: HOUSING AUTH OF THE CITY OF YAKIMA | 810 N. 6TH AVE., YAKIMA, WA 98902 |  | 6,400
Total for Special Fees—Opt-Outs/Terminations |  |  | 400,600
Special Fees—Prepays
CA: COUNTY OF SAN MATEO HSG AUTH | 264 HARBOR BLVD., BLDG. A, BELMONT, CA 94002 |  | 1,400
CT: NORWALK HOUSING AUTHORITY | 24½ MONROE STREET, NORWALK, CT 06856 |  | 1,800
IL: CHAMPAIGN COUNTY HOUSING AUTHORITY | 205 WEST PARK AVENUE, CHAMPAIGN, IL 61820 |  | 20,600
IL: HSG AUTHORITY OF THE COUNTY OF DEKALB | 310 N. 6TH STREET, DEKALB, IL 60115 |  | 9,400
IL: DUPAGE COUNTY HOUSING AUTHORITY | 711 EAST ROOSEVELT ROAD, WHEATON, IL 60187 |  | 21,200
IN: HOUSING AUTH CITY OF MISHAWAKA | P.O. BOX 1347, MISHAWAKA, IN 46546 |  | 7,600
MA: BOSTON HOUSING AUTHORITY | 52 CHAUNCY STREET, BOSTON, MA 02111 |  | 7,600
MA: CAMBRIDGE HOUSING AUTHORITY | 675 MASSACHUSETTS AVENUE, CAMBRIDGE, MA 02139 |  | 84,400
MA: SPRINGFIELD HSG AUTHORITY | 25 SAAB COURT, P.O. BOX 1609, SPRINGFIELD, MA 01101 |  | 8,800
MA: PLYMOUTH HOUSING AUTHORITY | P.O. BOX 3537, PLYMOUTH, MA 02361 |  | 6,800
MA: GARDNER HSG AUTHORITY | 116 CHURCH ST., GARDNER, MA 01440 |  | 600
MD: HOUSING AUTHORITY OF BALTIMORE CITY | 417 EAST FAYETTE STREET, BALTIMORE, MD 21201 |  | 7,200
MN: MINNEAPOLIS PHA | 1001 WASHINGTON AVE. NORTH, MINNEAPOLIS, MN 55401 |  | 600
MN: WORTHINGTON HRA | 819 TENTH STREET, WORTHINGTON, MN 56187 |  | 2,000
NC: HSG AUTHORITY OF THE CITY OF ASHEVILLE | P.O. BOX 1898, ASHEVILLE, NC 28802 |  | 20,600
NJ: MIDDLETOWN HOUSING AUTHORITY | 2 OAKDALE DRIVE PLAZA, MIDDLETOWN, NJ 07748 |  | 6,200
NY: HA OF SYRACUSE | 516 BURT STREET, SYRACUSE, NY 13202 |  | 5,200
NY: THE CITY OF NEW YORK | DEPT OF HSG PRES & DEV 100 GOLD STREET, ROOM 501, NEW YORK, NY 10038 |  | 80,600
OH: MEDINA MHA | 850 WALTER ROAD, MEDINA, OH 44256 |  | 8,600
WA: HOUS AUTH OF THE CITY OF VANCOUVER | 2500 MAIN STREET, #200, VANCOUVER, WA 98660 |  | 11,800
WA: HOUS AUTH OF THE CITY OF YAKIMA | 810 N. 6TH AVE., YAKIMA, WA 98902 |  | 15,400
Total for Special Fees—Prepays |  |  | 328,400
Special Fees—RAD Conversions
CT: NORWALK HOUSING AUTHORITY | 24½ MONROE STREET, NORWALK, CT 06856 |  | 30,600
MA: BROOKLINE HOUSING AUTHORITY | 90 LONGWOOD AVE., BROOKLINE, MA 02146 |  | 5,800
ME: PORTLAND HSG AUTHORITY | 14 BAXTER BOULEVARD, PORTLAND, ME 04101 |  | 20,000
NY: HA OF SYRACUSE | 516 BURT STREET, SYRACUSE, NY 13202 |  | 43,600
NY: NYS HSG TRUST FUND CORPORATION | 38-40 STATE STREET, ALBANY, NY 12207 |  | 70,000
Total for Special Fees—RAD Conversions |  |  | 170,000
Special Fees—Relocation-Rent Supplement
MA: CAMBRIDGE HOUSING AUTHORITY | 675 MASSACHUSETTS AVENUE, CAMBRIDGE, MA 02139 |  | 15,200
MA: WORCESTER HOUSING AUTHORITY | 40 BELMONT STREET, WORCESTER, MA 01605 |  | 23,200
NY: CITY OF NEW YORK DEPT OF HSG PRES & DEV | 100 GOLD STREET, ROOM 501, NEW YORK, NY 10038 |  | 28,200
NY: CITY OF FULTON | COMMUNITY DEVELOPMENT DEPT, 125 W. BROADWAY, FULTON, NY 13069 |  | 8,200
NY: NYS HSG TRUST FUND CORPORATION | 38-40 STATE STREET, ALBANY, NY 12207 |  | 3,000
Total for Special Fees—Relocation-Rent Supplement |  |  | 77,800
Total for Special Fees |  |  | 1,010,200
Moderate Rehabilitation and Public Housing TP
Mod Rehab—RAD
CT: NORWALK HOUSING AUTHORITY | 24½ MONROE STREET, NORWALK, CT 06856 | 153 | 3,178,656
Total for Mod Rehab—RAD |  | 153 | 3,178,656
Mod Replacements
AZ: CITY OF TUCSON 310 NORTH COMMERCE | P.O. BOX 27210, TUCSON, AZ 85745 | 41 | 245,370
CA: OAKLAND HOUSING AUTHORITY | 1619 HARRISON ST., OAKLAND, CA 94612 | 8 | 87,813
CA: ALAMEDA COUNTY HSG AUTH | 22941 ATHERTON STREET, HAYWARD, CA 94541 | 17 | 245,159
CO: HOUS AUTH OF THE CITY AND COUNTY OF | 777 GRANT STREET, DENVER, CO 80203 | 60 | 596,909
CO: AURORA HOUSING AUTHORITY | 10745 E. KENTUCKY AVENUE, AURORA, CO 80012 | 44 | 418,165
DC: D.C. HOUSING AUTHORITY | 1133 NORTH CAPITOL STREET NE., WASHINGTON, DC 20002 | 2 | 21,781
FL: MIAMI DADE HOUSING AUTHORITY | 701 NW. 1ST COURT, 16TH FLOOR, MIAMI, FL 33136 | 18 | 167,752
FL: CITY OF MIAMI, DEPT. OF COMMU DEVE | 444 SW. 2ND AVENUE, 2ND FLOOR, MIAMI, FL 33130 | 8 | 96,288
ME: AUGUSTA HSG AUTHORITY | 33 UNION STREET SUITE 3, AUGUSTA, ME 04330 | 2 | 8,173
MI: DETROIT HOUSING COMMISSION | 1301 EAST JEFFERSON AVENUE, DETROIT, MI 48207 | 1 | 7,156
MO: ST. LOUIS COUNTY HOUSING AUTHORITY | 8865 NATURAL BRIDGE, ST. LOUIS, MO 63121 | 14 | 84,912
MT: MT DEPARTMENT OF COMMERCE | P.O. BOX 200545, 301 S. PARK, HELENA, MT 59620 | 5 | 26,287
ND: BURLEIGH COUNTY HOUSING AUTHORITY | 410 SOUTH 2ND STREET, BISMARCK, ND 58504 | 10 | 55,034
ND: BARNES COUNTY HOUSING AUTHORITY | 120 12TH STREET NW., VALLEY CITY, ND 58072 | 6 | 23,800
NE: HOUSING AUTHORITY OF LINCOLN | 5700 “R” ST., P.O. BOX 5327, LINCOLN, NE 68505 | 10 | 43,982
NY: CITY OF NORTH TONAWANDA | C/O BELMONT HOUSING RESOURCES, 1195 MAIN ST., BUFFALO, NY 14209 | 3 | 11,577
OH: CUYAHOGA MHA | 8120 KINSMAN ROAD, CLEVELAND, OH 44104 | 3 | 19,281
OH: DAYTON METROPOLITAN HA | 400 WAYNE AVE., P.O. BOX 8750, DAYTON, OH 45401 | 33 | 174,581
PA: ALLENTOWN HOUSING AUTHORITY | 1339 ALLEN STREET, ALLENTOWN, PA 18102 | 11 | 76,874
PA: WESTMORELAND COUNTY HSG AUTHORITY | R.D. #6, BOX 223 SOUTH GREENGATE RD., GREENSBURG, PA 15601 | 5 | 27,887
PA: YORK CITY HOUSING AUTHORITY | 31 S. BROAD STREET, YORK, PA 17405 | 13 | 77,000
RI: PROVIDENCE H A | 100 BROAD ST, PROVIDENCE, RI 02903 | 74 | 553,659
SC: CITY OF SPARTANBURG H/A | P.O. BOX 2828, SPARTANBURG, SC 29304 | 105 | 532,438
TN: HSG DEV AGENCY ELIZABETHTON | P.O. BOX 637, ELIZABETHTON, TN 37644 | 2 | 8,432
TX: HOUSTON HOUSING AUTHORITY | 2640 FOUNTAIN VIEW, HOUSTON, TX 77057 | 11 | 76,690
TX: AMARILLO HOUSING AUTHORITY | P.O. BOX 1971, 509 E. 7TH, AMARILLO, TX 79105 | 6 | 38,052
VA: DANVILLE REDEVELOPMENT AND H/A | P.O. BOX 1476, DANVILLE, VA 24543 | 12 | 61,908
WI: WISCONSIN HOUSING & ECONOMIC DEVELOPMENT AUTHORITY | P.O. BOX 1728, MADISON, WI 53701 | 33 | 166,246
Total for Mod Replacements |  | 557 | 3,953,206
MTW Relocation/Replacement
NC: HA OF THE CITY OF CHARLOTTE | P.O. BOX 36795, 1301 SOUTH BOULEVARD, CHARLOTTE, NC 28236 | 30 | 274,406
PA: PHILADELPHIA HOUSING AUTHORITY | 12 SOUTH 23RD STREET, PHILADELPHIA, PA 19103 | 363 | 2,956,010
Total for MTW Relocation/Replacement |  | 393 | 3,230,416
MTW Replacement
KY: LOUISVILLE HOUSING AUTHORITY | 420 SOUTH EIGHTH STREET, LOUISVILLE, KY 40203 | 22 | 162,475
Total for MTW Replacement |  | 22 | 162,475
Relocation—(Sunset Provision)
WA: PENINSULA HOUSING AUTHORITY | 2603 S FRANCIS ST., PORT ANGELES, WA 98362 | 27 | 152,292
Total for Relocation—(Sunset Provision) |  | 27 | 152,292
Relocation—Sunset
GA: GEORGIA DEPT. OF COMMU AFFAIRS—RENTAL | 60 EXECUTIVE PARK SOUTH, NE., SUITE 250, ATLANTA, GA 30329 | 37 | 263,877
KY: NEWPORT HOUSING AUTHORITY | 301 SOUTHGATE, P.O. BOX 459, NEWPORT, KY 41072 | 50 | 250,764
TX: HOUSING AUTHORITY OF EL PASO | 5300 PAISANO, EL PASO, TX 79905 | 46 | 219,147
WA: PENINSULA HOUSING AUTHORITY | 2603 S. FRANCIS ST., PORT ANGELES, WA 98362 | 5 | 28,202
Total for Relocation—Sunset |  | 138 | 761,990
Replacement
AL: MOBILE HOUSING BOARD | P.O. BOX 1345, MOBILE, AL 36633 | 114 | 810,226
AL: HA ANNISTON | P.O. BOX 2225, ANNISTON, AL 36202 | 101 | 501,665
CA: SAN FRANCISCO HSG AUTH | 1815 EGBERT AVE., SAN FRANCISCO, CA 94124 | 527 | 8,492,500
FL: HA FORT LAUDERDALE CITY | 437 SW. 4TH AVENUE, FORT LAUDERDALE, FL 33315 | 98 | 910,318
GA: HA MACON | P.O. BOX 4928, 2015 FELTON AVENUE, MACON, GA 31208 | 390 | 2,234,493
GA: GEORGIA DEPT. OF COMM AFFAIRS—RENTAL | 60 EXECUTIVE PARK SOUTH, NE., SUITE 250, ATLANTA, GA 30329 | 70 | 499,227
IL: MADISON COUNTY HA | 1609 OLIVE STREET, COLLINSVILLE, IL 62234 | 97 | 533,411
IN: GARY HA | 578 BROADWAY, GARY, IN 46402 | 42 | 253,245
IN: EAST CHICAGO HA | 4920 LARKSPUR DR., P.O. BOX 498, EAST CHICAGO, IN 46312 | 332 | 1,945,148
KY: NEWPORT HOUSING AUTHORITY | 301 SOUTHGATE, P.O. BOX 459, NEWPORT, KY 41072 | 25 | 125,382
KY: CAMPBELL COUNTY HOUSING AUTHORITY | P.O. BOX 72424, NEWPORT, KY 41072 | 68 | 378,289
MA: SPRINGFIELD HSG AUTHORITY | 25 SAAB COURT, P.O. BOX 1609, SPRINGFIELD, MA 01101 | 45 | 329,611
MD: QUEEN ANNE'S COUNTY HSG AUTHORITY | P.O. BOX 280, 205 EAST WATER STREET, CENTREVILLE, MD 21617 | 24 | 223,794
NC: HA OF THE CITY OF CHARLOTTE | P.O. BOX 36795, 1301 SOUTH BOULEVARD, CHARLOTTE, NC 28236 | 43 | 359,016
NY: WHITE PLAINS HOUSING AUTHORITY | 223 DR. MARTIN LUTHER KING JR. BLVD., WHITE PLAINS, NY 10601 | 90 | 1,101,222
OH: DAYTON METROPOLITAN HA | 400 WAYNE AVE., P.O. BOX 8750, DAYTON, OH 45401 | 49 | 259,226
OR: NORTHEAST OREGON HOUSING AUTHORITY | P.O. BOX 3357, LA GRANDE, OR 97850 | 127 | 587,410
SC: HA COLUMBIA | 1917 HARDEN STREET, COLUMBIA, SC 29204 | 274 | 1,682,041
TN: HA MURFREESBORO | 415 NORTH MAPLE STREET, MURFREESBORO, TN 37130 | 26 | 130,213
TX: HOUSING AUTHORITY OF EL PASO | 5300 PAISANO, EL PASO, TX 79905 | 18 | 96,604
TX: GALVESTON HOUSING AUTHORITY | 4700 BROADWAY, GALVESTON, TX 77551 | 31 | 248,983
TX: TEXAS CITY HSG AUTHORITY | 817 SECOND AVENUE NORTH, TEXAS CITY, TX 77590 | 15 | 91,393
VA: NORFOLK REDEVELOPMENT & H/A | 201 GRANBY ST., P.O. BOX 968, NORFOLK, VA 23501 | 10 | 87,635
VT: BRATTLEBORO HOUSING AUTHORITY | 100 MELROSE TERRACE, P.O. BOX 2275, BRATTLEBORO, VT 05301 | 25 | 144,027
VT: VERMONT STATE HOUSING AUTHORITY | ONE PROSPECT STREET, MONTPELIER, VT 05602 | 55 | 374,055
Total for Replacement |  | 2,696 | 22,399,134
Witness Relocation Assistance
FL: BROWARD COUNTY HOUSING AUTHORITY | 4780 NORTH STATE ROAD 7, LAUDERDALE LAKES, FL 33319 | 1 | 21,336
MD: MONTGOMERY CO HOUSING AUTHORITY | 10400 DETRICK AVENUE, KENSINGTON, MD 20895 | 4 | 89,064
NY: THE MUNICIPAL HOUS AUTH CITY OF | 1511 CENTRAL PARK AVE., P.O. BOX 35, YONKERS, NY 10710 | 1 | 17,304
WV: MARTINSBURG HOUSING AUTHORITY | 703 S. PORTER AVENUE, MARTINSBURG, WV 25401 | 1 | 14,521
Total for Witness Relocation Assistance |  | 7 | 142,225
Choice Neighborhood Relocation (Sunset Provision)
OH: CINCINNATI METROPOLITAN HSG. AUTH | 16 WEST CENTRAL PARKWAY, CINCINNATI, OH 45210 | 119 | 715,057
TN: MEMPHIS HOUSING AUTHORITY | P.O. BOX 3664, MEMPHIS, TN 38103 | 300 | 1,642,035
Total for Choice Neighborhood Relocation (Sunset Provision) |  | 419 | 2,357,092
Total for Moderate Rehabilitation and Public Housing TP |  | 4,412 | 36,337,486
Multifamily Housing TP
Certain At-Risk Households Low Vacancy
CA: COUNTY OF LOS ANGELES HOUSING AUTH | C.D.C. COUNTY OF LOS ANGELES, 700 W. MAIN STREET, ALHAMBRA, CA 91801 | 56 | 555,643
NY: TOWN OF BROOKHAVEN DEPT OF HSG COMM | ONE INDEPENDENCE HILL, FARMINGVILLE, NY 11738 | 111 | 1,635,070
Total for Certain At-Risk Households Low Vacancy |  | 167 | 2,190,713
Choice Neighborhood Relocation—(Sunset Provision)
TN: MEMPHIS HOUSING AUTHORITY | P.O. BOX 3664, MEMPHIS, TN 38103 | 86 | 781,798
WI: HA OF THE CITY OF MILWAUKEE | P.O. BOX 324, 809 NORTH BROADWAY, MILWAUKEE, WI 53201 | 150 | 904,825
Total for Choice Neighborhood Relocation—(Sunset Provision) |  | 236 | 1,686,623
New Housing Conversion Rent Supplement
MA: CAMBRIDGE HOUSING AUTHORITY | 675 MASSACHUSETTS AVENUE, CAMBRIDGE, MA 02139 | 76 | 1,211,309
MA: WORCESTER HOUSING AUTHORITY | 40 BELMONT STREET, WORCESTER, MA 01605 | 116 | 714,560
NY: CITY OF NEW YORK DEPT OF HSG PRESE | 100 GOLD STREET, ROOM 501, NEW YORK, NY 10038 | 141 | 1,658,549
NY: CITY OF FULTON | COMMUNITY DEVELOPMENT DEPT., 125 W. BROADWAY, FULTON, NY 13069 | 41 | 171,108
NY: NYS HSG TRUST FUND CORPORATION | 38-40 STATE STREET, ALBANY, NY 12207 | 15 | 145,001
Total for New Housing Conversion Rent Supplement |  | 389 | 3,900,527
Prepayment—RAD
IL: WINNEBAGO COUNTY HOUSING AUTHORITY | 3617 DELAWARE STREET, ROCKFORD, IL 61102 | 0 | 130,272
NY: HA OF SYRACUSE | 516 BURT STREET, SYRACUSE, NY 13202 | 218 | 1,319,196
NY: NYS HSG TRUST FUND CORPORATION | 38-40 STATE STREET, ALBANY, NY 12207 | 394 | 4,389,370
WI: RACINE COUNTY HA | 837 MAIN STREET, RACINE, WI 53403 | 0 | 244,325
Total for Prepayment—RAD |  | 612 | 6,083,163
Pre-payment Replacement
IN: HOUSING AUTH CITY OF MISHAWAKA | P.O. BOX 1347, MISHAWAKA, IN 46546 | 38 | 171,762
MA: CAMBRIDGE HOUSING AUTHORITY | 675 MASSACHUSETTS AVENUE, CAMBRIDGE, MA 02139 | 15 | 239,074
MA: PLYMOUTH HOUSING AUTHORITY | P.O. BOX 3537, PLYMOUTH, MA 02361 | 34 | 346,359
WA: HOUSING AUTH OF THE CITY OF YAKIMA | 810 N 6TH AVE, YAKIMA, WA 98902 | 77 | 375,366
Total for Pre-Payments Replacement |  | 164 | 1,132,561
Pre-payment Vouchers
CA: COUNTY OF SAN MATEO HSG AUTH | 264 HARBOR BLVD., BLDG. A, BELMONT, CA 94002 | 7 | 103,396
CA: CITY OF SANTA MONICA | 1901 MAIN ST., STE. A, SANTA MONICA, CA 90405 | 0 | 772,230
CT: NORWALK HOUSING AUTHORITY | 24½ MONROE STREET, NORWALK, CT 06856 | 9 | 121,908
IL: CHAMPAIGN COUNTY HOUSING AUTHORITY | 205 WEST PARK AVENUE, CHAMPAIGN, IL 61820 | 23 | 171,004
IL: HSG AUTHORITY OF THE COUNTY OF DEKALB | 310 N. 6TH STREET, DEKALB, IL 60115 | 47 | 332,664
IL: DUPAGE COUNTY HOUSING AUTHORITY | 711 EAST ROOSEVELT ROAD, WHEATON, IL 60187 | 106 | 818,034
MA: BOSTON HOUSING AUTHORITY | 52 CHAUNCY STREET, BOSTON, MA 02111 | 38 | 497,446
MA: CAMBRIDGE HOUSING AUTHORITY | 675 MASSACHUSETTS AVENUE, CAMBRIDGE, MA 02139 | 407 | 7,073,007
MA: SPRINGFIELD HSG AUTHORITY | 25 SAAB COURT, P.O. BOX 1609, SPRINGFIELD, MA 01101 | 44 | 322,286
MA: GARDNER HSG AUTHORITY | 116 CHURCH ST, GARDNER, MA 01440 | 3 | 17,572
MD: HOUSING AUTHORITY OF BALTIMORE CITY | 417 EAST FAYETTE STREET, BALTIMORE, MD 21201 | 36 | 308,340
MN: MINNEAPOLIS PHA | 1001 WASHINGTON AVE. NORTH, MINNEAPOLIS, MN 55401 | 3 | 26,443
MN: WORTHINGTON HRA | 819 TENTH STREET, WORTHINGTON, MN 56187 | 10 | 36,300
MS: MISS REG H A II | P.O. BOX 1887, OXFORD, MS 38655 | 0 | 484,530
NC: HSG AUTHORITY OF THE CITY OF ASHEVILLE | P.O. BOX 1898, ASHEVILLE, NC 28802 | 103 | 615,392
NJ: MIDDLETOWN HOUSING AUTHORITY | 2 OAKDALE DRIVE PLAZA, MIDDLETOWN, NJ 07748 | 31 | 337,356
NY: HA OF SYRACUSE | 516 BURT STREET, SYRACUSE, NY 13202 | 26 | 157,335
NY: THE CITY OF NEW YORK | DEPT OF HSG PRESERVATION & DEV 501, NEW YORK, NY 10038 | 403 | 5,034,462
OH: MEDINA MHA | 850 WALTER ROAD, MEDINA, OH 44256 | 43 | 220,673
WA: HOUS AUTH OF THE CITY OF VANCOUVER | 2500 MAIN STREET, #200, VANCOUVER, WA 98660 | 59 | 392,041
Total for Pre-Payment Vouchers |  | 1,398 | 17,842,419
Rent Supplement—RAD
MA: BROOKLINE HOUSING AUTHORITY | 90 LONGWOOD AVE., BROOKLINE, MA 02146 | 29 | 377,583
ME: PORTLAND HSG AUTHORITY | 14 BAXTER BOULEVARD, PORTLAND, ME 04101 | 100 | 740,850
Total for Rent Supplement—RAD |  | 129 | 1,118,433
Termination/Opt-out Vouchers
CA: COUNTY OF CONTRA COSTA HSG AUTH | 3133 ESTUDILLO ST., P.O. BOX 2759, MARTINEZ, CA 94553 | 11 | 132,367
CO: CITY OF ENGLEWOOD HOUSING AUTHORITY | 3460 SOUTH SHERMAN ST. #101, ENGLEWOOD, CO 80110 | 28 | 204,127
CT: HARTFORD HOUSING AUTHORITY | 160 OVERLOOK TERRACE, HARTFORD, CT 06106 | 37 | 316,226
CT: HSG AUTH OF CITY OF NEW HAVEN | 360 ORANGE STREET, NEW HAVEN, CT 06511 | 266 | 3,534,824
FL: CITY OF MIAMI, DEPT. OF COMMUN DEVE | 444 SW. 2ND AVENUE, 2ND FLOOR, MIAMI, FL 33130 | 28 | 353,942
IA: CHARLES CITY HOUS AND REDEVE | 501 CEDAR TERRCE SOUTH, CHARLES CITY, IA 50616 | 10 | 37,918
IA: SPIRIT LAKE LOW RENT HSG AGENCY | 710 LAKE ST, SPIRIT LAKE, IA 51360 | 11 | 25,629
IA: DUBUQUE DEPT OF HUMAN RIGHTS | 350 W. 6TH STREET—SUITE 312, DUBUQUE, IA 52001 | 9 | 43,483
IL: CHICAGO HOUSING AUTHORITY | 60 EAST VAN BUREN ST., 11TH FLOOR, CHICAGO, IL 60605 | 25 | 263,940
IL: HSG AUTHORITY FOR LASALLE COUNTY | P.O. BOX 782, 526 EAST NORRIS DRIVE, OTTAWA, IL 61350 | 14 | 72,351
IL: MENARD COUNTY HOUSING AUTHORITY | 101 W. SHERIDAN ROAD, PETERSBURG, IL 62675 | 6 | 30,070
IN: HA KOKOMO | 219 E. TAYLOR ST., P.O. BOX 1207, KOKOMO, IN 46903 | 11 | 49,127
IN: INDIANAPOLIS HOUSING AGENCY | 1919 N. MERIDIAN STREET, INDIANAPOLIS, IN 46202 | 40 | 198,878
KS: WICHITA HOUSING AUTHORITY | 332 N. RIVERVIEW, WICHITA, KS 67203 | 49 | 250,523
KY: LOUISVILLE HOUSING AUTHORITY | 420 SOUTH EIGHTH STREET, LOUISVILLE, KY 40203 | 175 | 1,323,269
KY: MAYFIELD HOUSING AUTHORITY | 312 BROOKSIDE DRIVE, P.O. BOX 474, MAYFIELD, KY 42066 | 14 | 57,068
LA: TALLULAH (CITY OF) PHA | 204 NORTH CEDAR STREET, TALLULAH, LA 71282 | 5 | 20,453
ME: MAINE STATE HSG AUTHORITY | 353 WATER STREET, AUGUSTA, ME 04330 | 34 | 214,256
MI: MICHIGAN STATE HSG. DEV. AUTH | P.O. BOX 30044, LANSING, MI 48909 | 39 | 238,320
MN: CAMBRIDGE ECON DEVE AUTHORITY | 121 SOUTH FERN STREET, CAMBRIDGE, MN 55008 | 18 | 98,939
MO: HOUS AUTH OF KANSAS CITY, MISSOURI | 920 MAIN STREET, SUITE 701, KANSAS CITY, MO 64106 | 6 | 40,362
NC: GREENSBORO HOUSING AUTHORITY | P.O. BOX 21287, GREENSBORO, NC 27420 | 148 | 776,947
ND: STUTSMAN COUNTY HOUSING AUTHORITY | 300 2ND ST NE.—200, JAMESTOWN, ND 58401 | 18 | 65,236
ND: HOUS AUTH OF THE COUNTY OF RANSOM | P.O. BOX 5, ASHLEY, ND 58413 | 11 | 30,825
ND: STARK COUNTY HOUSING AUTHORITY | 1149 WEST VILLARD, P.O. BOX 107, DICKINSON, ND 58602 | 12 | 54,671
ND: RICHLAND COUNTY HOUSING AUTHORITY | 230 8TH AVENUE WEST, WEST FARGO, ND 58078 | 11 | 31,503
ND: COOPERSTOWN HOUS AND REDE | P.O. BOX 208, COOPERSTOWN, ND 58425 | 6 | 17,477
ND: DICKEY/SARGENT HOUSING AUTHORITY | P.O. BOX 624, 309 NORTH 2ND, ELLENDALE, ND 58436 | 2 | 5,150
ND: MCHENRY/PIERCE COUNTY HOUS AUTH | C/O MINOT HOUSING AUTHO, 108 BURDICK EXPRESSWAY, MINOT, ND 58701 | 33 | 155,905
NE: OMAHA HOUSING AUTHORITY | 1805 HARNEY STREET, OMAHA, NE 68102 | 24 | 135,595
NJ: NEW JERSEY DEPART OF COMM AFFAIRS | 101 SOUTH BROAD STREET, P.O. BOX 051, TRENTON, NJ 08625 | 23 | 227,361
NY: THE CITY OF NEW YORK | DEPT OF HSG PRES & DEV, 100 GOLD STREET, ROOM 501, NEW YORK, NY 10038 | 9 | 106,885
NY: VILLAGE OF MANLIUS | C/O CHRISTOPHER COMMUNITY, 990 JAMES STREET, SYRACUSE, NY 13203 | 11 | 44,187
NY: NYS HSG TRUST FUND CORPORATION | 38-40 STATE STREET, ALBANY, NY 12207 | 56 | 541,336
OH: CINCINNATI METROPOLITAN HSG. AUTH | 16 WEST CENTRAL PARKWAY, CINCINNATI, OH 45210 | 73 | 439,849
OH: LUCAS MHA | P.O. BOX 477, 435 NEBRASKA AVENUE, TOLEDO, OH 43697 | 40 | 202,101
OH: LORAIN MHA | 1600 KANSAS AVENUE, LORAIN, OH 44052 | 18 | 109,387
PA: ALLENTOWN HOUSING AUTHORITY | 1339 ALLEN STREET, ALLENTOWN, PA 18102 | 0 | 60,039
SD: ABERDEEN HOUSING & REDE COMMI | 2324 3RD AVE. SE., ABERDEEN, SD 57401 | 14 | 35,335
SD: LAWRENCE COUNTY HOUSING AUTHORITY | 1220 CEDAR STREET, #113, STURGIS, SD 57785 | 5 | 22,163
SD: VERMILLION HOUSING & REDEVELOPMENT | P.O. BOX 362, 14 WEST MAIN STREET, VERMILLION, SD 57069 | 37 | 222,449
TN: MEMPHIS HOUSING AUTHORITY | P.O. BOX 3664, MEMPHIS, TN 38103 | 359 | 2,309,174
TN: TENNESSEE HOUSING DEV AGENCY | 502 DEADERICK STREET, 3RD FLOOR, NASHVILLE, TN 37243 | 15 | 79,630
VA: RICHMOND REDEVELOPMENT & H/A | 901 CHAMBERLAYNE PARKWAY, P.O. BOX 26887, RICHMOND, VA 23261 | 132 | 1,031,437
WA: HA OF THE CITY OF BREMERTON | 600 PARK AVENUE, BREMERTON, WA 98337 | 30 | 220,381
WA: HOUS AUTH OF THE CITY OF TACOMA | 902 SOUTH “L” STREET, SUITE 2C, TACOMA, WA 98405 | 48 | 427,018
WA: HOUS AUTH OF THE CITY OF YAKIMA | 810 N 6TH AVE., YAKIMA, WA 98902 | 32 | 136,551
Total for Termination/Opt-out Vouchers |  | 2,003 | 14,994,664
Total for Housing TP |  | 5,098 | 48,949,103
CPD TPV
SRO—Replacement
CO: FORT COLLINS HSG AUTH | 1715 W. MOUNTAIN AVE., FORT COLLINS, CO 80521 | 12 | 97,598
OH: CUYAHOGA MHA | 8120 KINSMAN ROAD, CLEVELAND, OH 44104 | 3 | 18,674
VQ: VIRGIN ISLANDS HOUSING AUTHORITY | P.O. BOX 7668, ST. THOMAS, VI 00801 | 7 | 60,273
WA: SEATTLE HOUSING AUTHORITY | 120 SIXTH AVENUE NORTH, P.O. BOX 19028, SEATTLE, WA 98109 | 74 | 497,333
Total for SRO—Replacement |  | 96 | 673,878
Total for CPD TPV |  | 96 | 673,878
Grand Total |  | 9,606 | 86,970,667

[FR Doc. 2017-07390 Filed 4-11-17; 8:45 am]

BILLING CODE 4210-67-P